ENVIRONMENTAL PROTECTION AGENCY

[FRL-7028-4]

Agency Information Collection Activities: Submission for OMB Review; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting and Recordkeeping Requirements for Importation of Nonconforming Marine Engines, OMB Control Number 2060-0320, expires September 30, 2001. The ICR describes the nature of the information collection and its expected burden and cost; where appropriate, it includes the actual data collection instrument.

DATES: Comments must be submitted on or before September 10, 2001.

ADDRESSES: Send comments, referencing EPA ICR Number 1723.03 and OMB Control Number 2060-0320, to the following addresses: Susan Auby, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.susan@epamail.epa.gov, or download off the Internet at http://www.epa.gov/icr and refer to EPA ICR No. 1723.03. For technical questions about the ICR contact Leonard Lazarus at EPA by phone at (202) 564-9281.

SUPPLEMENTARY INFORMATION: Title: Reporting and Recordkeeping Requirements for Importation of Nonconforming Marine Engines, OMB Control Number 2060-0320, EPA ICR No. 1723.03, expiring September 30, 2001. This is a request for extension of a currently approved collection.

Abstract: Individuals and businesses importing marine engines, including outboard engines and personal water craft, request approval for engine importations. The collection of this information is mandatory (40 CFR 89.601 et seq. & 91.701 et seq. and Clean Air Act Sections 203 and 208) in order to ensure compliance of nonconforming engines with Federal emissions requirements. Joint EPA and Customs regulations at 40 CFR 89.601 et seq., 40 CFR 91.701 et seq., and 19 CFR 12.74 promulgated under the authority of Clean Air Act Sections 203 and 208 give authority for the collection of information. This authority was extended to nonroad engines under section 213(d). The information is used by program personnel to ensure that all Federal emission requirements concerning imported nonconforming engines are met. Any information submitted to the Agency for which a claim of confidentiality is made, is safeguarded according to policies set forth in Title 40, Chapter I, Part 2, Subpart B—Confidentiality of Business Information (see 40 CFR 2), and the public is not permitted access to information containing personal or organizational identifiers. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 8, 2001; no comments were received.

Burden Statement: The annual public reporting and recordkeeping burden for this collection of information is estimated to average 0.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected entities: Individuals and businesses importing marine engines.

Estimated Number of Respondents: 1,000.

Frequency of Response: 3.1 responses per year.

Estimated Total Annual Hour Burden: 1550.

Estimated Total Capital, O&M Cost Burden: $77,500.

Send comments on the Agency's need for this information, the accuracy of the provided burden estimates, and any suggested methods for minimizing respondent burden, including through the use of automated collection techniques to the addresses listed above. Please refer to EPA ICR Number 1723.03 and OMB Control Number 2060-0320 in any correspondence.

Dated: July 31, 2001.
Oscar Morales,
Director, Collection Strategies Division.

[FR Doc. 01-20129 Filed 8-9-01; 8:45 am]

BILLING CODE 6560-50-P